DEPARTMENT OF DEFENSE

Department of the Army

[Docket ID USA-2009-0024]

Privacy Act of 1974; System of Records

AGENCY: Department of the Army, DoD.

ACTION: Notice to alter a system of records.

SUMMARY: The Department of the Army is proposing to alter a system of records in its existing inventory of records systems subject to the Privacy Act of 1974 (5 U.S.C. 552a), as amended.

DATES: The proposed action will be effective on September 18, 2009 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Mr. Leroy Jones, (703) 428-6185.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on August 12, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 12, 2009.
Patricia L. Toppings,
OSD Federal Register Liaison Officer, Department of Defense.

A0040-5a DASG DoD

System name:

Defense Medical Surveillance System (April 30, 2009, 74 FR 19944).

Changes:

* * * * *

Categories of individuals covered by the system:

Delete entry and replace with “Department of Defense military personnel (active and reserve) and their family members; separated service members and retirees; DoD civilian personnel; contract personnel deploying with the Armed Forces; applicants for military service; and individuals who participate in DoD health surveys.”

Categories of records in the system:

Delete entry and replace with “Information in this system of records originates from personnel systems, medical records, health surveys (e.g., Pentagon Post Disaster Health Assessment, periodic, pre and post deployment health assessments) and/or health assessments made from specimen collections (remaining serum from blood samples) from which serologic tests can be performed (serum number, specimen locator information, collection date, place of collection). Records being maintained include but are not limited to individual's name, Social Security Number, date of birth, sex, branch of service, home address, age, occupation, job series, rank, grade, education level, Armed Forces Qualification Test data, marital status, number of dependents, medical encounters, medical treatment facility, condition of medical and physical health and capabilities, responses to survey questions, register number assigned, and similar records, information and reports, relevant to the various registries; and specimen collections (remaining serum from blood samples) from which serologic tests can be performed (serum number, specimen locator information, collection date, place of collection).”

* * * * *

A0040-5a DASG DoD

System name:

Defense Medical Surveillance System.

System location:

Armed Forces Health Surveillance Center, Building T-20, Room 213, 6900 Georgia Avenue, NW., Washington, DC 20307-5001; and Armed Forces Health Surveillance Center, 503 Robert Grant Avenue, Silver Spring, MD 20910-7500.

Categories of individuals covered by the system:

Department of Defense military personnel (active and reserve) and their family members; separated service members and retirees; DoD civilian personnel; contract personnel deploying with the Armed Forces; applicants for military service; and individuals who participate in DoD health surveys.

Categories of records in the system:

Information in this system of records originates from personnel systems, medical records, health surveys (e.g., Pentagon Post Disaster Health Assessment, periodic, pre and post deployment health assessments) and/or health assessments made from specimen collections (remaining serum from blood samples) from which serologic tests can be performed (serum number, specimen locator information, collection date, place of collection). Records being maintained include but are not limited to individual's name, Social Security Number, date of birth, sex, branch of service, home address, age, occupation, job series, rank, grade, education level, Armed Forces Qualification Test data, marital status, number of dependents, medical encounters, medical treatment facility, condition of medical and physical health and capabilities, responses to survey questions, register number assigned, and similar records, information and reports, relevant to the various registries; and specimen collections (remaining serum from blood samples) from which serologic tests can be performed (serum number, specimen locator information, collection date, place of collection).

Authority for maintenance of the system:

5 U.S.C. 301, Departmental Regulations; 10 U.S.C. 136, Under Secretary of Defense for Personnel and Readiness; 10 U.S.C. 3013, Secretary of the Army, 10 U.S.C. 8013, Secretary of the Air Force, 10 U.S.C. 5013, Secretary of the Navy; DoD Instruction 1100.13, Surveys of DoD Personnel; DoD Directive 6490.2, Comprehensive Health Surveillance; DoD Directive 6490.3, Deployment Health; DoD Instruction 6485.01, Human immunodeficiency Virus; DoD Directive 1404.10, Civilian Expeditionary Workforce; and E.O. 9397 (SSN), as amended.

Purpose(s):

The Defense Medical Surveillance System (DMSS) supports a systematic collection, analysis, interpretation, and reporting of standardized, population based data for the purposes of characterizing and countering medical threats to a population's health, well-being and performance. The Armed Forces Health Surveillance Center, which operates the DMSS, routinely publishes summaries of notifiable diseases, trends of illnesses of special surveillance interest and field reports describing outbreaks and case occurrences in the Medical Surveillance Monthly Report, the principal vehicle for disseminating medical surveillance information of broad interest. Through DMSS, the Armed Forces Health Surveillance Center provides the sole link between the DoD Serum Repository and other databases. This repository contains over 46 million frozen serum specimens and is the largest of its kind in the world.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” set forth at the beginning of the Army's compilation of systems of records notices also apply to this system, except that these routine uses do not apply to the Serum Repository.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders and electronic storage media.

Retrievability:

Information is retrieved by individual's name, Social Security Number (SSN), registry number and specimen number.

Safeguards:

Records are maintained within secured buildings in areas accessible only to persons having official need, and who therefore are properly trained and screened. Automated segments are protected by controlled system passwords governing access to data.

Retention and disposal:

Records are destroyed when no longer needed for reference and for conducting business.

System manager(s) and address:

Director of the Armed Forces Health Surveillance Center, The Army Surgeon General, Headquarters, Department of the Army, 5109 Leesburg Pike, Falls Church, VA 22041-3258.

Notification procedure:

Individuals seeking to determine whether information about themselves is contained in this system should address written inquiries to the Director, Armed Forces Health Surveillance Center, 503 Robert Grant Avenue, Silver Spring, MD 20910-7500.

For verification purposes, individual should provide their full name, Social Security Number (SSN), any details which may assist in locating record, and their signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)'.

Record access procedures:

Individuals seeking access to information about themselves contained in this system should address written inquiries to the Director of the Armed Forces Health Surveillance Center, 503 Robert Grant Avenue, Silver Spring, MD 20910-7500.

For verification purposes, individual should provide their full name, Social Security Number, any details which may assist in locating record, and their signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)'.

If executed within the United States, its territories, possessions, or commonwealths: ‘I declare (or certify, verify, or state) under penalty of perjury that the foregoing is true and correct. Executed on (date). (Signature)'.

Contesting record procedures:

The Army's rules for accessing records, and for contesting contents and appealing initial agency determinations are contained in Army Regulation 340-21; 32 CFR part 505; or may be obtained from the system manager.

Record source categories:

From the individual, personnel and medical records, and mortality and casualty reports.

Exemptions claimed for the system:

None.

[FR Doc. E9-19865 Filed 8-18-09; 8:45 am]

BILLING CODE 5001-06-P